DEPARTMENT OF LABOR

Employment and Training Administration

Publication of the 5-Year Research and Evaluation Strategic Plan Program Years 2012-2017

AGENCY: Employment and Training Administration, Labor.

ACTION: Notice.

SUMMARY: Notice is hereby given of the publication of the U.S. Department of Labor, Employment and Training Administration's (USDOL/ETA) 5-Year Research and Evaluation Strategic Plan for 2012-2017. Under Section 171 of the Workforce Investment Act, every 2 years the Secretary of Labor is required to transmit to Congress a strategic plan for pilots, demonstrations, and research over the next 5 years in areas related to workforce development programs and policies. The full report is available here: http://wdr.doleta.gov/research/FullText_Documents/ETAOP_2013_21.pdf.

FOR FURTHER INFORMATION CONTACT: Wayne S. Gordon, USDOL/ETA, Office of Policy Development and Research, N-5641, 200 Constitution Avenue NW., Washington, DC 20210; phone: (202) 693-3179; fax: (202) 693-2766.

Dated: Signed in Washington, DC, on this 23rd day of May 2013.
Jane Oates,
Assistant Secretary for Employment and Training, Labor.

[FR Doc. 2013-12966 Filed 5-31-13; 8:45 am]

BILLING CODE 4510-FM-P